DEPARTMENT OF HOUSING AND URBAN DEVELOPMENT

[Docket No. FR-5076-D-10]

Delegations of Authority for the Office of Housing—Federal Housing Administration (FHA); Redelegations of Authority to Other HUD Offices

AGENCY: Office of the Assistant Secretary for Housing—Federal Housing Commissioner, HUD.

ACTION: Notice of redelegations of authority.

SUMMARY: This notice updates and reiterates the notice of redelegations of authority issued on August 11, 2003, by the Assistant Secretary for Housing—Federal Housing Commissioner to HUD officials in HUD offices other than the Office of Housing, and published on August 20, 2003. This notice also updates the redelegation of authority issued on March 4, 2004, by the Assistant Secretary for Housing—Federal Housing Commissioner to the General Counsel, published on March 12, 2004.

DATES: Effective Date: September 15, 2006.

FOR FURTHER INFORMATION CONTACT: Eliot C. Horowitz, Senior Advisor to the Assistant Secretary for Housing—Federal Housing Commissioner, Office of Housing, Department of Housing and Urban Development, 451 Seventh Street, SW., Room 9110, Washington, DC 20410-8000, phone (202) 708-0614, extension 2125. (This is not a toll-free number.) Persons with hearing or speech impairments may access this number through TTY by calling the toll-free Federal Information Relay Service number at 1-(800) 877-8339.

SUPPLEMENTARY INFORMATION:

I. Background

Housing legislation and programs are implemented and administered by the Office of Housing. However, in some instances, the nature of a statute or program, or component thereof, requires another HUD office to conduct the program or participate in its administration. On August 11, 2003, the Assistant Secretary for Housing—Federal Housing Commissioner (Assistant Secretary for Housing) redelegated authority to the Office of Fair Housing and Equal Opportunity (FHEO) and the Office of the General Counsel, and revoked all prior redelegations from the Assistant Secretary for Housing to other HUD offices. This notice of redelegations of authority was published on August 20, 2003, at 68 FR 50173.

On March 5, 2004, the Assistant Secretary for Housing issued a redelegation of authority to the General Counsel, the purpose of which was to clarify and supplement the authority that was previously redelegated to the General Counsel. That notice of redelegation of authority was published on March 12, 2004, at 69 FR 11880.

Today's notice reaffirms and consolidates, into this one document, the authority previously redelegated by the Assistant Secretary for Housing to the Assistant Secretary for Fair Housing and Equal Opportunity and to the General Counsel. Please note that the redelegation of authority to the General Counsel does not affect the authority of the Mortgagee Review Board, described in 24 CFR 30.35, or of the Assistant Secretary for Housing to initiate civil money penalty actions.

II. Authority Redelegated

The Assistant Secretary for Housing and the General Deputy Assistant Secretary for Housing—Deputy Federal Housing Commissioner (General Deputy Assistant Secretary for Housing) retain and redelegate, to the officials listed below, the power and authority described as follows:

A. Assistant Secretary, Office of Fair Housing and Equal Opportunity

Authority is redelegated on a nation-wide basis to exercise the fair housing provisions of the Federal Housing Enterprises Financial Safety and Soundness Act of 1992 (FHEFSSA) at 12 U.S.C. 4545, and under the regulations at 24 CFR part 81, subpart C, as described in the Federal Register notice of delegation of authority of February 12, 1999 (64 FR 7407), and subject to the limitations and exceptions set forth in that February 12, 1999 notice.

B. General Counsel, Office of the General Counsel

Authority is redelegated to the General Counsel to issue a notice of violation under the terms of a regulatory agreement and a notice of default under the terms of a housing assistance payments contract and to take all actions permitted under 24 CFR 30.36, 24 CFR 30.45, and 24 CFR 30.68.

III. Authority Excepted

The authority delegated in Section II does not include the authority to waive regulations under the program jurisdiction of the Assistant Secretary for Housing.

IV. Further Redelegations

A. The authority redelegated to the Assistant Secretary for Fair Housing and Equal Opportunity may not be redelegated.

B. The General Counsel is authorized to redelegate the authority redelegated in Section II.B. above. This notice has no impact upon the redelegation of authority issued by the General Counsel to the Departmental Enforcement Center on March 5, 2004, and published on March 12, 2004. (See notice of redelegation of authority published on March 12, 2004, at 69 FR 11879.)

V. Prior Redelegations Superseded

The redelegations of authority to the Assistant Secretary for Fair Housing and Equal Opportunity and the General Counsel, published on August 20, 2003 and the redelegation of authority to the General Counsel published on March 12, 2004, are reiterated in this notice.

VI. Revocation of Authority

The Assistant Secretary for Housing—Federal Housing Commissioner may revoke the authority authorized herein, in whole or part, at any time. Any revocation or modification of a redelegation will be published in the Federal Register.

Authority: Section 7(d), Department of Housing and Urban Development Act, 42 U.S.C. 3535(d).

Dated: September 15, 2006.
Brian D. Montgomery,
Assistant Secretary for Housing—Federal Housing Commissioner.

[FR Doc. E6-16893 Filed 10-11-06; 8:45 am]

BILLING CODE 4210-67-P